DEPARTMENT OF LABOR

Employment and Training Administration

Notice of Determinations Regarding Eligibility To Apply for Worker Adjustment Assistance and NAFTA Transitional Adjustment Assistance

In accordance with Section 223 of the Trade Act of 1974, as amended, the Department of Labor herein presents summaries of determinations regarding eligibility to apply for trade adjustment assistance for workers (TA-W) issued during the period of December, 2001 and January, 2002.

In order for an affirmative determination to be made and a certification of eligibility to apply for worker adjustment assistance to be issued, each of the group eligibility requirements of section 222 of the act must be met:

(1) That a significant number or proportion of the workers in the workers' firm, or an appropriate subdivision thereof, have become totally or partially separated,

(2) That sales or production, or both, of the firm or sub-division have decreased absolutely, and

(3) That increases of imports of articles like or directly competitive with articles produced by the firm or appropriate subdivision have contributed importantly to the separations, or threat thereof, and to the absolute decline in sales or production.

Negative Determinations for Worker Adjustment Assistance

In each of the following cases the investigation revealed that criterion (3) has not been met. A survey of customers indicated that increased imports did not contribute importantly to worker separations at the firm.

TA-W-39,324; Maverick Tube Corp., Beaver Falls, PA

TA-W-40,004; Baldor Drives and Motors, Plymouth, MN

TA-W-40,035; Eagle Veneer, Inc., Harrisburg, OR

TA-W-40,147 & A; Guilford Mills, Inc., Cobleskill, NY and Sales Division, New York, NY

TA-W-40,223 & A; Supreme Machine Products, Spring Lake, MI and Anderson, SC

TA-W-40,251; Pratt and Austin Co., Inc., Holyoke, MA

TA-W-40,295; TNS Mills, Spartanburg, SC

TA-W-40,326; Jones and Vining of Maine, Lewiston, ME

TA-W-40,331; Georgia-Pacific West, Camas, WA

TA-W-40,355 & A; R.L. Stowe Mills, Inc., Mebane, NC and Belmont, NC

TA-W-40,195; Warwood Tool Co., Wheeling, WV

TA-W-40,152; Butech, Inc., Salem, OH

TA-W-39,863; Lynn Ann Fashions, Brooklyn, NY

In the following cases, the investigation revealed that the criteria for eligibility have not been met for the reasons specified.

Increased imports did not contribute importantly to worker separations at the firm.

TA-W-40,188; GFC Foam LLC, West Hazleton, PA

TA-W-40,230; Garlock Sealing Technologies, A Div. of B.F. Goodrich, Sodus, NY

TA-W-40,266; Modern Engineering, Troy, MI

TA-W-40,368; SEH-America, Vancouver, WA

TA-W-40,129; Tyco International, A Div. of Tyco Electronic Power Systems, Formerly Lucent Technologies, Mesquite, TX

The investigation revealed that criteria (2) has not been met. Sales or production did not decline during the relevant period as required for certification.

TA-W-40,388; X-Fab Texas, Inc, Lubbock, TX

TA-W-40,131; Levcort International, Paradoy Fabrics Div and Andrew Knits Div., New York, NY

The workers firm does not produce an article as required for certification under Section 222 of the Trade Act of 1974.

TA-W-40,412; Alcatel USA Marketing, Inc., Andover, MA

TA-W-39,614; Trinity Industries, Inc., Railcar Repair Group, Paris, TN

TA-W-40,488; Sunbrand, A Div. Of Willcox and Gibbs, Inc., Norcross, GA

Affirmative Determination for Workers Adjustment Assistance

The following certifications have been issued; the date following the company name and location of each determination references the impact date for all workers of such determination.

TA-W-40,466; & A; Value Line Textiles, Inc., Pilot Mountain, NC and Lenoir City, TN: November 17, 2000.

TA-W-40,380; HLS Fashions Corp., New York, NY: October 31, 2000.

TA-W-39,931; Minister Machine Co., Minister, OH: August 16, 2000.

TA-W-40,375; EGS Electrical Group/Sola Hevi-Duty, Lake Geneva, WI: November 20, 2000.

TA-W-40,281; Rezyal Ltd, New York, NY: September 15, 2000.

TA-W-40,228; Omaha Fixture Manufacturing, Inc., Omaha, NE: August 1, 2000.

TA-W-40,126; Miller Bag, Freeman Plant, Freeman, SD: September 17, 2000.

TA-W-40,006 & A; Planar Systems, Inc., Highway V, Lake Mills, WI and Jefferson Street, Lake Mills, WI: August 23, 2000.

TA-W-40,892; A and M Apparel, Hamilton, AL: August 7, 2000.

TA-W-39,891; CMS North America, A Div. Of The CMS Group, Caledonia, MI: August 6, 2000.

TA-W-40,010; Seville Dyeing Co., Inc., Woodsocket, RI: September 17, 2000.

TA-W-40,142; Mercury Marine, Brunswick Corp., Fond Du Lac, WI: September 10, 2000.

TA-W-39,700; Priority Finishing Corp., Fall River, MS: June 26, 2000.

TA-W-39,733; Raltron Electronics, Miami, FL: July 18, 2000.

TA-W-40,204; Fisher-Rosemount, Austin, TX: September 28, 2000.

TA-W-40,208; Joseph L. Ertl. Inc., d/b/a Scale Models, Dyersville, IA: September 24, 2000.

TA-W-39,931; Minister Machine Co., Minister, OH: August 16, 2000.

TA-W-40, 229; Eastwood Industrial, Inc., Albermarle, NC: October 4, 2000.

TA-W-40,394 & A; N and H Corp., Mohnton, PA and Reading, PA: November 6, 2000.

TA-W-40,359; Nocona Leather Goods Co Ltd, Nocona Athletic Goods, Nocona, TX: October 16, 2000.

TA-W-40,323; Summitville Tiles, Inc., Summitville Carolina Div., Morganton, NC: October 16, 2000.

TA-W-40,299; Gilbert Paper, Div. Of Mead Corp., Menasha, WI: October 11, 2000.

TA-W-40,297 & A; Controls, Inc., Logansport, IN and Charlotte, NC: October 11, 2000.

TA-W-40,253; Mauney Hosiery Mills, Inc., Kings Mountain, NC: October 10, 2000.

TA-W-39,804 & A,B,C; Kemet Electronics Corp., Greenville, SC, Mauldin Plant, Simpsonville, SC, Simpsonville Plant, Simpsonville, SC, Fountain Inn Plant, Fountain Inn, SC: July 23, 2000.

TA-W-40.227; Delphi Harrison Thermal Systems, Moraine, OH: September 21, 2000.

TA-W-39,743; DuPont Corp., Polyester Enterprise, Dacron Polyester Fiber, Cape Fear Plant, Wilmington, NC, A; Kinston Plant, Kinston, NC, B; Cooper River Plant, Charleston, SC, C; Sales and Marketing Offices, Charlotte, NC, D; Administrative Offices, Wilmington, DE: August 24, 2001.

Also, pursuant to Title V of the North American Free Trade Agreement Implementation Act (Pub.L. 103-182) concerning transitional adjustment assistance hereinafter called (NAFTA-TAA) and in accordance with Section 250(a), Subchapter D, Chapter 2, Title II, of the Trade Act as amended, the Department of Labor presents summaries of determinations regarding eligibility to apply for NAFTA-TAA issued during the month of December, 2001.

In order for an affirmative determination to be made and a certification of eligibility to apply for NAFTA-TAA the following group eligibility requirements of Section 250 of the Trade Act must be met:

(1) That a significant number or proportion of the workers in the workers' firm, or an appropriate subdivision thereof (including workers in any agricultural firm or appropriate subdivision thereof), have become totally or partially separated from employment and either—

(2) That sales or production, or both, of such firm or subdivision have decreased absolutely,

(3) That imports from Mexico or Canada of articles like or directly competitive with articles produced by such firm or subdivision have increased, and that the increased imports contributed importantly to such workers' separations or threat of separation and to the decline in sales or production of such firm or subdivision; or

(4) That there has been a shift in production by such workers' firm or subdivision to Mexico or Canada of articles like or directly competitive with articles which are produced by the firm or subdivision.

Negative Determinations NAFTA-TAA

In each of the following cases the investigation revealed that criteria (3) and (4) were not met. Imports from Canada or Mexico did not contribute importantly to workers' separations. There was no shift in production from the subject firm to Canada or Mexico during the relevant period.

NAFTA-TAA-05237; Versatile Mold and Design, Inc., Rutledge, GA

NAFTA-TAA-05466; Nocona Leather Goods Co. Ltd., Nocona Athletic Goods, Nocona, TX

NAFTA-TAA-05613; Hibbing Taconite Co., Cliffs Mining Co., Hibbing, MN

NAFTA-TAA-05624; AXV Corp., Vancouver, WA

NAFTA-TAA-05386; GFC Foam, LLC, West Hazleton, PA

NAFTA-TAA-05416; Gilbert Paper, Div. of Mead Corp., Menasha, WI

NAFTA-TAA-05525 & A; R.L. Stowe Mills, Inc., Mebane, NC and Belmont, NC

NAFTA-TAA-05537; Chemwest Systems, Inc., Portland, OR

NAFTA-TAA-05576; Von Hoffman Press, Inc., Owensville, MO

NAFTA-TAA-04879; Maverick Tube Corp., Beaver Falls, PA

NAFTA-TAA-05273; Raltron Electronics, Miami, FL

NAFTA-TAA-05304; Eagle Veneer, Inc., Harrisburg, OR

The workers firm does not produce an article as required for certification under Section 250(a), Subchapter D, Chapter 2, Title II, the Trade Act of 1974, as amended.

NAFTA-TAA-05625; Alcatel USA Marketing, Inc., Andover, MA

NAFTA-TAA-05462; Modern Engineering, Troy, MI

Affirmative Determinations NAFTA-TAA

NAFTA-TAA-5351; Davis Wire Corp., Hayward, CA: August 28, 2000.

NAFTA-TAA-04823; Brillcast, Inc., Grand Rapids, MI: April 30, 2000.

NAFTA-TAA-05470; Tyco International, Ltd., A Div. of Tyco Electronic Power Systems, Formerly Lucent Technologies, Mesquite, TX: October 22, 2000.

NAFTA-TAA-05388 & A; Mexican Industries, Detroit, MI and Dearborn, MI: October 3, 2000.

NAFTA-TAA-5423; Eastwood Industrial, Inc., Albemarle, NC: October 1, 2000.

NAFTA-TAA-05428; Controls, Inc., Logansport, IN and Charlotte, NC: October 10, 2000.

NAFTA-TAA-05451; Mauney Hosiery Mills, Inc., Kings Mountain, NC: October 10, 2000.

NAFTA-TAA-05521; Value Line Textiles, Inc., Pilot Mountain, NC: November 1, 2000.

NAFTA-TAA-05522; Value Line Textiles, Inc., Lenoir City, TN: November 1, 2000.

NAFTA-TAA-05529; Safeway, Inc., Juice and Dressings Div., Grandview, WA: October 29, 2000.

NAFTA-TAA-05535; Rich Products Manufacturing Corp., Appleton Div., Appleton, WI: November 1, 2000.

NAFTA-TAA-05571; Wesley Industries, Inc., Bloomfield Hills, MI: November 20, 2000.

NAFTA-TAA-5351; Davis Wire Corp., Hayward, CA: August 28, 2000.

NAFTA-TAA-5599; Artex International, Boiling Springs, NC: December 4, 2000.

I hereby certify that the aforementioned determinations were issued during the month of December, 2001 and January, 2002. Copies of these determinations are available for inspection in Room C-5311, U.S. Department of Labor, 200 Constitution Avenue, NW., Washington, DC 20210 during normal business hours or will be mailed to persons who write to the above address.

Dated: January 7, 2002.
Edward A. Tomchick,
Director, Division of Trade Adjustment Assistance.

[FR Doc. 02-712 Filed 1-10-02; 8:45 am]

BILLING CODE 4510-30-M